DEPARTMENT OF TRANSPORTATION

Federal Railroad Administration

Petition for Waiver of Compliance

In accordance with Part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favour of relief.

Finger Lakes Railway Corporation

[Docket Number FRA-2001-10215]

The Finger Lakes Railway Corporation seeks a waiver of compliance from the requirements of the Safety Glazing Standards-Passenger Car, 49 CFR 223.15, which requires all windows be FRA certified Glazing and a minimum of four emergency windows. The petitioner requests the waiver for four cars recently purchased from Via Rail Canada, Inc. The coaches were built between 1954 and 1956, and were equipped with tempered glazing which met the Canadian glazing requirements. The coaches would be utilized in charter service in the rural Finger Lakes Region of New York State. Finger Lakes Railway Corporation anticipates the charter trips to be 15 to 20 miles in length and operated at a speed not to exceed 15 miles per-hour.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2001-10215) and must be submitted to the Docket Clerk, DOT Central Docket Management Facility, Room Pl-401, Washington, DC 20590. Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://dms.dot.gov.

Issued in Washington, DC on October 2, 2001.
Grady C. Cothen, Jr.,
Deputy Associate Administrator for Safety Standards and Program Development.

[FR Doc. 01-25221 Filed 10-5-01; 8:45 am]

BILLING CODE 4910-06-P